DEPARTMENT OF THE INTERIOR

Bureau of Land Management

[LLES956000-L14200000-BJ0000]

Eastern States: Filing of Plat of Survey, North Carolina

AGENCY: Bureau of Land Management, Interior.

ACTION: Notice.

SUMMARY: On Thursday, January 3, 2013, there was published in the Federal Register, Volume 78, Number 318, on pages 318 through 319 a notice entitled “Eastern States: Filing of Plats of Survey”. In said notice were plats of survey representing the dependent resurvey of a portion of the Qualla Indian Boundary, lands held in trust for the Eastern Band of Cherokee Indians, Swain County, in the State of North Carolina. This was accepted December 19, 2012.

The official filing of the plat is hereby stayed, pending consideration of all protests.

Dated: February 5, 2013.
Dominica Van Koten,
Chief Cadastral Surveyor.

[FR Doc. 2013-03041 Filed 2-8-13; 8:45 am]

BILLING CODE 4310-GJ-P